ENVIRONMENTAL PROTECTION AGENCY

[EPA-HQ-OPP-2005-0061; FRL-8072-9]

Azinphos-methyl and Phosmet Proposed Decisions; Notice of Availability

AGENCY: Environmental Protection Agency (EPA).

ACTION: Notice.

SUMMARY: This notice announces the availability of EPA's proposed re-evaluation decisions for the pesticides azinphos-methyl and phosmet, the grower impact assessments, human health documents, environmental fate and effects documents, and other related documents, and opens a 60-day public comment period. These proposed decisions implement the 2001 IREDs for these pesticides as well as the 2001 Memorandum of Agreement between EPA and the phosmet technical registrants and the 2002 Memorandum of Agreement between EPA and the azinphos-methyl technical registrants. EPA is proposing a schedule to phase out the remaining uses of azinphos-methyl and is proposing to lengthen some restricted-entry intervals (REIs) and seek additional biomonitoring data for the nine time-limited uses of phosmet. EPA is also proposing certain additional restrictions on the use of azinphos-methyl and phosmet.

DATES: Comments must be received on or before August 8, 2006.

ADDRESSES: Submit your comments, identified by docket identification (ID) number EPA-HQ-OPP-2005-0061 for azinphos-methyl, or identified by docket identification (ID) number EPA-HQ-OPP-2002-0354 for phosmet, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2005-0061 for azinphos-methyl and to docket ID number EPA-HQ-OPP-2002-0354 for phosmet. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: Tom Myers, Special Review and Reregistration Division (7508P), Office of Pesticide Programs, Environmental Protection Agency, 1200 Pennsylvania Ave., NW., Washington, DC 20460-0001; telephone number: 703-308-8589, fax number: 703-308-8041; e-mail address: myers.tom@epa.gov.

SUPPLEMENTARY INFORMATION:

I. General Information

A. Does this Action Apply to Me?

This action is directed to the public in general, and may be of interest to a wide range of stakeholders including environmental, human health, farmworker, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

EPA is making available the proposed decision documents and related supporting documents for azinphos-methyl and phosmet.

In the azinphos-methyl 2001 IRED, and subsequent Memorandum of Agreement, the Agency concluded, based on evaluation of the risks and benefits of the use of azinphos-methyl, that 35 uses should either be immediately canceled or phased out over a four-year period. The remaining ten time-limited azinphos-methyl uses (almonds, apples/crabapples, highbush and lowbush blueberries, Brussels sprouts, cherries, nursery stock, parsley, pears, pistachios, and walnuts) were eligible for reregistration for a period of four years, after which EPA would accept and evaluate applications for renewal of the registrations.

In the phosmet 2001 IRED EPA determined that three uses should be canceled and that 33 uses were eligible for reregistration. EPA made a time-limited determination for nine uses (apples, crabapples, peaches, pears, nectarines, apricots, plums/prunes, grapes, and highbush blueberries) and would reconsider those uses in 2006. The IRED provided that this reconsideration would involve a determination whether the restricted-entry intervals (REIs) for workers that were imposed as a result of the IRED should be maintained indefinitely or whether longer “default” REIs, or other appropriate REIs, should be adopted.

These IREDs were implemented through Memoranda of Agreements with the phosmet and azinphos-methyl technical registrants in 2001 and 2002, respectively.

After consideration of the risks and benefits of these pesticides, as provided in the IREDs, EPA is proposing that the remaining uses of azinphos-methyl be phased out according to the following schedule: almonds, pistachios, walnuts, Brussels sprouts, and nursery stock in 2007 and apples/crabapples, blueberries, cherries, pears, and parsley in 2010. EPA is also proposing certain additional risk-mitigation restrictions and activities, including larger buffers, reducing annual application rates, and eliminating the few remaining aerial uses.

EPA is proposing to increase the REIs for most of the nine time-limited uses of phosmet and to require additional biomonitoring data and additional use restrictions.

The decision documents, including the Agency's supporting rationale for these proposed decisions can be found in docket identification number EPA-HQ-OPP-2005-0061 for azinphos-methyl, and docket identification number EPA-HQ-OPP-2002-0354 for phosmet at http://www.regulations.gov.

EPA is providing an opportunity, through this notice, for interested parties to provide comments and input on the Agency's proposed decisions for azinphos-methyl and phosmet.

Comments should be limited to issues raised by the proposed decisions and associated documents. All comments should be submitted using the methods in ADDRESSES, and must be received by EPA on or before the closing date. Comments will become part of the Agency Docket for azinphos-methyl and phosmet.

B. What is the Agency's Authority for Taking this Action?

EPA is reevaluating these uses of AZM and phosmet pursuant to section 3c(5) of FIFRA, which provides, among other things, that the EPA Adminstrator shall register a pesticide when its use will not cause unreasonable adverse effects on the environment.

List of Subjects

Environmental protection, Pesticides and pests.

Dated: June 5, 2006.
Debra Edwards,
Director, Special Review and Reregistration Division, Office of Pesticide Programs.

[FR Doc. E6-8929 Filed 6-8-06; 8:45 am]

BILLING CODE 6560-50-S